DEPARTMENT OF COMMERCE

Foreign-Trade Zones Board

[Order No. 1831]

Reorganization/Expansion of Foreign-Trade Zone 74 Under Alternative Site Framework Baltimore, MD

Pursuant to its authority under the Foreign-Trade Zones Act of June 18, 1934, as amended (19 U.S.C. 81a-81u), the Foreign-Trade Zones Board (the Board) adopts the following Order:

Whereas, the Board adopted the alternative site framework (ASF) in December 2008 (74 FR 1170-1173, 01/12/09; correction 74 FR 3987, 01/22/09; 75 FR 71069-71070, 11/22/10) as an option for the establishment or reorganization of general-purpose zones;

Whereas, the Baltimore Development Corporation on behalf of the City of Baltimore, grantee of Foreign-Trade Zone 74, submitted an application to the Board (FTZ Docket 53-2011, filed 8/10/2011; amended 3/13/2012) for authority to reorganize and expand under the ASF with a service area of the City of Baltimore and the Counties of Anne Arundel, Baltimore, Cecil and Harford, Maryland, within and adjacent to the Baltimore Customs and Border Protection port of entry; FTZ 74's existing Sites 1, 3, 5, 10, 11 and 14 would be removed; the boundaries of Sites 4, 16 and 17 would be expanded; the boundaries of Sites 2, 6, 7, 8, 12 and 13 would be reduced; a portion of Site 8 would be redesignated as Site 25; Sites 2, 4 and 16 would be categorized as magnet sites; Sites 6, 7, 8, 9, 12, 13, 15, 17, 18, 20, 21, 22, 23, 24 and 25 would be categorized as usage-driven sites; Temporary Sites 19 and 31 will maintain their current zone designation; and, the grantee proposes a new magnet site (Site 26) and four new usage-driven sites (Sites 27, 28, 29 and 30);

Whereas, notice inviting public comment was given in the Federal Register (76 FR 50717-50718, 8/16/2011) and the application, as amended, has been processed pursuant to the FTZ Act and the Board's regulations; and

Whereas, the Board adopts the findings and recommendations of the examiner's report, and finds that the requirements of the FTZ Act and Board's regulations are satisfied, and that the proposal, as amended, is in the public interest;

Now, therefore, the Board hereby orders:

The application to reorganize and expand FTZ 74 under the alternative site framework is approved, subject to the FTZ Act and the Board's regulations, including Section 400.13, to the Board's standard 2,000-acre activation limit for the overall general-purpose zone project, to a five-year ASF sunset provision for magnet sites that would terminate authority for Sites 2, 4, 16 and 26 if not activated by May 31, 2017, and to a three-year ASF sunset provision for usage-driven sites that would terminate authority for Sites 6, 7, 8, 9, 12, 13, 15, 17, 18, 20, 21, 22, 23, 24, 25, 26, 27, 28, 29 and 30 if no foreign-status merchandise is admitted for a bona fide customs purpose by May 31, 2015.

Signed at Washington, DC, this 24th day of May 2012.
Paul Piquado,
Assistant Secretary of Commerce for Import Administration, Alternate Chairman, Foreign-Trade Zones Board.
Attest:
Andrew McGilvray,
Executive Secretary.

[FR Doc. 2012-13477 Filed 6-1-12; 8:45 am]

BILLING CODE 3510-DS-P